DEPARTMENT OF THE INTERIOR

Bureau of Land Management

[LLNML003100 L14300000.ES0000; NMNM 128496]

Notice of Realty Action: Recreation and Public Purposes Act Classification; Lease and Conveyance of Public Land, Doña Ana County, NM

AGENCY: Bureau of Land Management, Interior.

ACTION: Notice of Realty Action.

SUMMARY: The Bureau of Land Management (BLM) has examined approximately 346.59 acres of public land in Doña Ana County, New Mexico, and found them suitable for classification for lease and/or conveyance under the provisions of the Recreation and Public Purposes (R&PP) Act, as amended. The City of Las Cruces proposes to use the land for a public safety complex and recreation park center.

DATES: Interested parties may submit written comments regarding the proposed classification of the land or lease and/or conveyance of the land on or before January 27, 2014.

ADDRESSES: Written comments concerning this Notice should be addressed to: District Manager, BLM Las Cruces District Office, 1800 Marquess Street, Las Cruces, NM 88005.

FOR FURTHER INFORMATION CONTACT: Kendrah Penn, Realty Specialist, at the above address, by phone at 575-525-4382, or by email at kpenn@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act (43 U.S.C. 315f), the following public land in Doña Ana County, New Mexico, has been examined and found suitable for classification for lease and/or conveyance to the City of Las Cruces under the provisions of the R&PP Act, as amended (43 U.S.C. 869 et seq.):

New Mexico Principal Meridian, New Mexico

T. 23 S., R. 2 E.,

Sec. 3, lots 1 and 2, SW¼NE¼, N½SE¼NE¼, SW¼SE¼NE¼, E½W½W½E½SE¼NW¼, E½W½E½SE¼NW¼, E½E½SE¼NW¼, E½W½E½NE¼SW¼, E½E½NE¼SW¼, E½W½E½SE¼SW¼, E½E½SE¼SW¼, W½NE¼SE¼, SE¼NE¼SE¼, W½SE¼, and SE¼SE¼.

The area described contains 346.59 acres. Any area described as a half (½) of a half (½) is based on the proper subdivision of section in accordance with the Manual of Surveying Instructions.

In accordance with the R&PP Act, the City of Las Cruces proposes to use the land for a fire station, police substation, trail network, and sports fields. Additional detailed information pertaining to this application, plan of development, and site plans are contained in case file NMNM 128496 located in the BLM Las Cruces District Office. The above-described land is not needed for any Federal purpose. The lease and/or conveyance of the land to the City of Las Cruces, are consistent with the BLM Mimbres Resource Management Plan, dated December 1993, and would be in the public interest. The City of Las Cruces has not applied for more than the 640-acre annual limitation for public purposes other than recreation use and has submitted a statement in compliance with the regulation at 43 CFR 2741.4(b).

The lease and/or conveyance, when issued, will be subject to the provisions of the R&PP Act and applicable regulations of the Secretary of the Interior and will contain the following reservations to the United States:

1. Provisions of the R&PP Act and to all applicable regulations of the Secretary of the Interior, including, but not limited to, the terms required by 43 CFR 2741.9.

2. A right-of-way for ditches and canals constructed by the authority of the United States, Act of August 30, 1890 (43 U.S.C. 945).

3. Lease and/or conveyance of the public land shall be subject to valid existing rights.

4. All minerals will be reserved to the United States, together with the right to prospect for, mine, and remove such deposits from the same under applicable law and such regulations as the Secretary of the Interior may prescribe.

5. Any other reservations that the authorized officer determines appropriate to ensure public access and proper management of Federal land and interests therein.

Subject to limitations prescribed by law and regulations, prior to conveyance, a holder of any right-of-way within the lease area may be given the opportunity to amend the right-of-way for conversion to a new term, including perpetuity, if applicable.

Detailed information concerning this proposed project, including, but not limited to documentation relating to compliance with applicable environmental and cultural resource laws, is available for review at the BLM Las Cruces District at the address above.

Upon publication of this notice in the Federal Register, the land described will be segregated from appropriation under the public land laws, including the general mining laws, except for lease or conveyance under the R&PP Act, and leasing under the mineral leasing laws.

Classification Comments: Interested parties may submit comments involving the suitability of the land for the proposed facility. Comments on the classification are restricted to whether the land is physically suited for the proposal, where the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for R&PP use.

Any adverse comments will be reviewed by the BLM New Mexico State Director, who may sustain, vacate, or modify this realty action. In the absence of any adverse comments, the classification of the land described in this notice will become effective on February 10, 2014. The land will not be available for lease and/or conveyance until after the classification becomes effective.

Before including your address, phone number, email address, or other personal identifying information in your comment, you should be aware that your entire comment—including your personal identifying information—may be made publicly available at any time. While you can ask us in your comment to withhold your personal identifying information from public review, we cannot guarantee that we will be able to do so.

Authority: 43 CFR 2741.5.

Bill Childress,
District Manager, Las Cruces.

[FR Doc. 2013-29671 Filed 12-11-13; 8:45 am]

BILLING CODE 4310-FB-P